FEDERAL EMERGENCY MANAGEMENT AGENCY

Fire Defense Deployment Analysis Project

AGENCY: Federal Emergency Management Agency (FEMA)/ United States Fire Administration (USFA).

ACTION: Notice of postponement of research project.

SUMMARY: We (FEMA) give notice that we have postponed indefinitely our research project to update a methodology on “Fire Defense Deployment Analysis”. On March 7, 2000 we gave notice in the Federal Register, 65 FR 12007, of the availability of funds to update the 1968 analysis using a cooperative agreement. Because of this postponement we cannot honor requests for copies of the “Assistance Application Package” now. No further information is available at this time.

Dated: April 11, 2000.
Kenneth Burris,
Chief Operating Officer, U.S. Fire Administration.

[FR Doc. 00-10143 Filed 4-21-00; 8:45 am]

BILLING CODE 6718-01-P